DEPARTMENT OF DEFENSE

Department of the Air Force

Record of Decision for the United States Air Force F-35A Wing Beddown and MQ-9 Wing Beddown Environmental Impact Statement

AGENCY: Department of the Air Force, Department of Defense.

ACTION: Notice of availability of Record of Decision.

SUMMARY: On March 19, 2021, the United States Air Force (USAF) signed the Record of Decision (ROD) for the Environmental Impact Statement: F-35A Wing Beddown and MQ-9 Wing Beddown.

ADDRESSES: Mr. Nolan Swick, AFCEC/CZN, 2261 Hughes Avenue, Suite 155, JBSA-Lackland Air Force Base, Texas 78236-9853, (210) 925-3392; nolan.swick@us.af.mil.

SUPPLEMENTARY INFORMATION: The USAF has decided to beddown 72 F-35A Primary Aerospace-Vehicle Assigned (PAA) with 6 F-35 Backup Aircraft Inventory (BAI) in a three-squadron F-35A Wing at Tyndall Air Force Base, Florida. The USAF is deferring a decision on the proposed MQ-9 Wing beddown at Tyndall AFB or Vandenberg AFB. The USAF decision documented in the ROD was based on matters discussed in the Final Environmental Impact Statement, inputs from the public and regulatory agencies, and other relevant factors. The Final Environmental Impact Statement was made available to the public on December 4, 2020 through a Notice of Availability in the Federal Register (Volume 85, Number 234, Pages 78323-78324) with a waiting period that ended on January 4, 2021.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Adriane S. Paris,
Acting Air Force Federal Register Liaison Officer.

[FR Doc. 2021-07121 Filed 4-6-21; 8:45 am]

BILLING CODE 5001-10-P